FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/address | Date reissued
016201N | Delta Line International, Inc., 8008 NW., 68th Street Miami, FL 33166 | June 26, 2004.
014600N | Domar Enterprises, Inc. dba SGL Lines, 2534 Walnut Bend, Suite C, Houston, TX 77042 | June 28, 2004.
017378F | E.M.W. Freight Forwarding Corp., 8601 NW., 72nd Street Miami, FL 33166 | June 13, 2004.
004638F | FITS Limited Liability Company, 1923 Lakeville Drive Kingwood, TX 77339 | June 9, 2004.
016297NF | Multitrans, Inc., 2103 NW., 79th Avenue Miami, FL 33122 | May 1, 2004.
017353NF | West Consolidators, Inc., 220 W. Ivy Avenue, Inglewood, CA 90302 | June 9, 2004.

Sandra L. Kusumoto,
Director, Bureau of Consumer Complaints and Licensing.

[FR Doc. 04-17194 Filed 7-27-04; 8:45 am]

BILLING CODE 6730-01-P